DEPARTMENT OF THE INTERIOR

Bureau of Land Management

[LLNM940000. L1420000.BJ0000]

Notice of Filing of Plats of Survey, New Mexico

AGENCY: Bureau of Land Management, Interior.

ACTION: Notice of filing of Plats of Survey.

SUMMARY: The plats of survey described below are scheduled to be officially filed in the New Mexico State Office, Bureau of Land Management, Santa Fe, New Mexico, thirty (30) calendar days from the date of this publication.

SUPPLEMENTARY INFORMATION:

New Mexico Principal Meridian, New Mexico (NM)

The plat, representing the dependent resurvey and survey, in Township 18 North, Range 1 East-1 West, of the New Mexico Principal Meridian, accepted November 2, 2011, for Group 1118 NM.

The plat, in five sheets, representing the dependent resurvey and survey, in Township 19 North, Range 9 East, of the New Mexico Principal Meridian, accepted November 2, 2011, for Group 1120 NM.

Indian Meridian, Oklahoma (OK)

The plat, representing the dependent resurvey and survey in Township 21 North, Range 22 East, of the Indian Meridian, accepted November 21, 2011, for Group 203 OK.

The plat, representing the dependent resurvey and survey in Township 24 North, Range 9 East, of the Indian Meridian, accepted October 28, 2011, for Group 201 OK. The plat, representing the dependent resurvey and survey in Township 7 North, Range 13 West, of the Indian Meridian, accepted November 17, 2011, for Group 205 OK. The plat, representing the dependent resurvey and survey in Township 2 North, Range 13 West, of the Indian Meridian, accepted November 10, 2011, for Group 209 OK.

FOR FURTHER INFORMATION CONTACT: These plats will be available for inspection in the New Mexico State Office, Bureau of Land Management, 301 Dinosaur Trail, Santa Fe, New Mexico. Copies may be obtained from this office upon payment. Contact Marcella Montoya at (505) 954-2097, or by email at Marcella_Montoya@nm.blm.gov, for assistance.

Persons who use a telecommunications device for the deaf (TDD) may call the Federal Information Relay Service (FIRS) at 1 (800) 877-8339 to contact the above individual during normal business hours.

These plats are to be scheduled for official filing 30 days from the notice of publication in the Federal Register, as provided for in the BLM Manual Section 2097—Opening Orders. Notice from this office will be provided as to the date of said publication. If a protest against a survey, in accordance with 43 CFR 4.450-2, of the above plats is received prior to the date of official filing, the filing will be stayed pending consideration of the protest.

A plat will not be officially filed until the day after all protests have been dismissed and become final or appeals from the dismissal affirmed.

A person or party who wishes to protest against any of these surveys must file a written protest with the Bureau of Land Management New Mexico State Director stating that they wish to protest.

A statement of reasons for a protest may be filed with the Notice of protest to the State Director or the statement of reasons must be filed with the State Director within thirty (30) days after the protest is filed.

Robert A. Casias,
Deputy State Director, Cadastral Survey/GeoSciences.

[FR Doc. 2011-31899 Filed 12-12-11; 8:45 am]

BILLING CODE 4310-FB-P